DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 26, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: CCC's Export Credit Guarantee Program (GSM-102).

OMB Control Number: 0551-0004.

Summary of Collection: The Export Credit Guarantee Program (GSM-102) is administered by the Commodity Credit Corporation (CCC) of the U.S. Department of Agriculture. This program provides guarantees to exporters in order to maintain and increase overseas importers ability to purchase U.S. agricultural goods. The Export Credit Guarantee Program underwrites credit extended by U.S. private banks to approved foreign banks using dollar-denominated, irrevocable letters of credit. The Foreign Agricultural Service (FAS) will collect information from the guarantee application submitted by the participants through an electronic system or in writing (via fax or email) or mail.

Need and Use of the Information: FAS will collect information from participating U.S. exporters in order to determine the exporter's eligibility for program benefits. The information collection is necessary to enable exporters, U.S. banks and foreign banks to receive the benefits of the program and to allow CCC to comply with the Federal Funding Accountability and Transparency Act, the Debt Collection Improvement Act, and non-procurement suspension and debarment regulations found at 2 CFR pars 180 and 417. If the information were not collected CCC would be unable to determine if export sales under the program would be eligible for coverage or, if coverage conformed to program requirements.

Description of Respondents: Business or other for-profit.

Number of Respondents: 47.

Frequency of Responses: Record keeping, Reporting: On occasion.

Total Burden Hours: 1,130.

Foreign Agricultural Service

Title: Food Donation Programs (Food for Progress & Section 416(b) and McGovern-Dole International Food for Education and Child Nutrition Program).

OMB Control Number: 0551-0035.

Summary of Collection: The U.S. Department of Agriculture's Foreign Agricultural Service (FAS) provides U.S. agricultural commodities to feed millions of hungry people in needy countries through direct donations and concessional programs. USDA Food aid may be provided through three program authorities: Food for Progress authorized by the Food for Progress Act of 1985, Section 416(b); and the McGovern-Dole International Food for Education and Child Nutrition Program authorized by the Food, Conservation, and Energy Act of 2008 and Public Law 480.

Need and Use of the Information: FAS will collect information from recipients desiring to receive grants or cooperative agreements under the programs to determine their ability to carry out a food aid program, to establish the terms under which the commodities will be provided, to monitor the progress of commodity distribution (including how transportation is procured), to monitor the progress of expenditure of monetization funds, and to evaluate both the program's success and the participant's effectiveness in meeting the agreed upon goals. Information is also collected from ship owners/brokers shipping the commodity to its destination.

Description of Respondents: Not for-profit institutions; Business or other for-profit.

Number of Respondents: 61.

Frequency of Responses: Recordkeeping; Reporting: Semi-annually; Quarterly; Monthly.

Total Burden Hours: 88,309.

Foreign Agricultural Service

Title: Pima Agriculture Cotton Trust Fund.

OMB Control Number: 0551-0044.

Summary of Collection: Section 12602 of the Agricultural Act of 2014 (Pub. L. 113-79) (The Act), as amended by the Agricultural Improvement Act of 2018 (Pub. L. 115-334), authorizes distributions out of the Pima Agriculture Cotton Trust Fund (“Pima Cotton Trust Fund”) in each of calendar years 2018 through 2023, payable to qualifying claimants. Eligible claimants are directed to submit a notarized affidavit, following the statutory procedures specified in Section 12314(c) or (d) of the Act.

Need and Use of the Information: Distributions out of the Trust Fund is payable to (1) One or more nationally recognized associations established for the promotion of pima cotton for use in textile and apparel goods; (2) certain yarn spinners of pima cotton that produced ring spun cotton yarns in the United States from pima cotton during the prior calendar year; and (3) manufacturers who cut and sew cotton shirts in the United States who certify that they used imported cotton fabric during the prior calendar year. Eligible claimants for a distribution from the Pima Cotton Trust Fund are directed to submit a notarized affidavit. The Foreign Agriculture Service (FAS) will use the information provided in the affidavits to certify the claimants' eligibility and to authorize payment from the Pima Cotton Trust Fund. If eligible claimants do not submit an affidavit with the required information they will not be entitled to a distribution from the Pima Cotton Trust Fund.

Description of Respondents: Business or other-for-profit.

Number of Respondents: 9.

Frequency of Responses: Record keeping, Reporting: Annually.

Total Burden Hours: 9.

Ruth Brown,
Departmental Information Collection Clearance Officer.

[FR Doc. 2021-01750 Filed 1-26-21; 8:45 am]

BILLING CODE 3410-10-P